DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arkansas: Benton, (FEMA Docket No.: B-1274) | City of Centerton (12-06-2356P) | The Honorable Bill Edwards, Mayor, City of Centerton, P.O. Box 208, Centerton, AR 72719 | City Hall, 290 Main Street, Centerton, AR 72719 | December 6, 2012 | 050399
Florida: Nassau, (FEMA Docket No.: B-1274) | Unincorporated areas of Nassau County (12-04-3609P) | The Honorable Daniel B. Leeper, Chairman, Nassau County Board of Commissioners, 96135 Nassau Place, Suite 1, Yulee, FL 32097 | 96135 Nassau Place, Yulee, FL 32097 | December 20, 2012 | 120170
Minnesota: Hennepin, (FEMA Docket No.: B-1274) | City of Crystal (12-05-1144P) | The Honorable ReNae Bowman, Mayor, City of Crystal, 4141 Douglas Drive North, Crystal, MN 55422 | City Hall, 4141 Douglas Drive North, Crystal, MN 55422 | December 24, 2012 | 270156
New Mexico: Bernalillo, (FEMA Docket No.: B-1274) | City of Albuquerque (12-06-1889P) | The Honorable Richard J. Berry, Mayor, City of Albuquerque, P.O. Box 1293, Albuquerque, NM 87103 | Development and Building Services Division, 600 2nd Street Northwest, Suite 201, Albuquerque, NM 87102 | November 29, 2012 | 350002
Oklahoma: Creek, (FEMA Docket No.: B-1274) | Town of Kiefer (12-06-0981P) | The Honorable West Ashford, Mayor, Town of Kiefer, P.O. Box 369, Kiefer, OK 74041 | City Hall, 401 East Indiana Avenue, Kiefer, OK 74041 | December 24, 2012 | 400393
Pennsylvania: Dauphin, (FEMA Docket No.: B-1274) | Township of Susquehanna (12-03-0513P) | The Honorable Frank Lynch, President, Township of Susquehanna Board of Commissioners, 1900 Linglestown Road, Harrisburg, PA 17110 | Susquehanna Township, 1900 Linglestown Road, Harrisburg, PA 17110 | December 24, 2012 | 420397
Texas:
Bexar, (FEMA Docket No.: B-1274) | City of San Antonio (12-06-0886P) | The Honorable Julian Castro, Mayor, City of San Antonio, 100 Military Plaza, San Antonio, TX 78205 | Municipal Plaza, 114 West Commerce Street, 7th Floor, San Antonio, TX 78205 | December 6, 2012 | 480045
Bexar, (FEMA Docket No.: B-1274) | City of San Antonio (12-06-0595P) | The Honorable Julian Castro, Mayor, City of San Antonio, 100 Military Plaza, San Antonio, TX 78205 | Municipal Plaza, 114 West Commerce Street, 7th Floor, San Antonio, TX 78205 | December 13, 2012 | 480045
Bexar, (FEMA Docket No.: B-1274) | Unincorporated areas of Bexar County (12-06-1452P) | The Honorable Nelson W. Wolff, Bexar County Judge, Paul Elizondo Tower, 101 West Nueva Street, 10th Floor, San Antonio, TX 78205 | Public Works Department, 233 North Pecos-La Trinidad, Suite 420, San Antonio, TX 78207 | December 6, 2012 | 480035
Collin, (FEMA Docket No: B-1274) | City of McKinney (11-06-4743P) | The Honorable Brian Loughmiller, Mayor, City of McKinney, 222 North Tennessee Street, McKinney, TX 75069 | City Hall, 222 North Tennessee Street, McKinney, TX 75069 | December 21, 2012 | 480135
Collin, (FEMA Docket No: B-1274) | City of Weston (11-06-4743P) | The Honorable Patti Harrington, Mayor, City of Weston, 301 Main Street, Weston, TX 75097 | City Hall, 210 South McDonald Street, McKinney, TX 75069 | December 21, 2012 | 481324
Collin, (FEMA Docket No: B-1274) | Unincorporated areas of Collin County (11-06-4743P) | The Honorable Keith Self, Collin County Judge, 2300 Bloomdale Road, Suite 4192, McKinney, TX 75071 | Collin County Department of Public Works, 210 South McDonald Street, McKinney, TX 75069 | December 21, 2012 | 480130
Dallas, (FEMA Docket No.: B-1274) | City of Coppell (11-06-4512P) | The Honorable Karen Hunt, Mayor, City of Coppell, 255 Parkway Boulevard, Coppell, TX 75019 | City Engineering Department, 255 Parkway Boulevard, Coppell, TX 75019 | December 10, 2012 | 480170
Dallas and Denton, (FEMA Docket No: B-1274) | City of Lewisville (11-06-4512P) | The Honorable Dean Ueckert, Mayor, City of Lewisville, 151 West Church Street, Lewisville, TX 75029 | City Hall, 1197 West Main Street, Lewisville, TX 75067 | December 10, 2012 | 480195
Dallas, Denton and Tarrant, (FEMA Docket No.: B-1274) | Town of Flower Mound (11-06-4512P) | The Honorable Tom Hayden, Mayor, Town of Flower Mound, 2121 Cross Timbers Road, Flower Mound, TX 75028 | Town Hall, 2121 Cross Timbers Road, Flower Mound, TX 75028 | December 10, 2012 | 480777
Denton, (FEMA Docket No.: B-1274) | Town of Cross Roads (12-06-0686P) | The Honorable Steve Smith, Mayor, Town of Cross Roads, 1401 Farm to Market Road 424, Cross Roads, TX 76227 | Town Hall, 1401 Farm to Market Road 424, Cross Roads, TX 76227 | December 10, 2012 | 481513
Denton, (FEMA Docket No.: B-1274) | Unincorporated areas of Denton County (12-06-0686P) | The Honorable Mary Horn, Denton County Judge, 110 West Hickory Street, 2nd Floor, Denton, TX 76201 | Denton County Government Center, 1505 East McKinney Street, Suite 175, Denton, TX 76209 | December 10, 2012 | 480774
Denton and Tarrant, (FEMA Docket No: B-1274) | City of Grapevine (11-06-4512P) | The Honorable William D. Tate, Mayor, City of Grapevine, P.O. Box 95104, Grapevine, TX 76099 | City Hall, 200 South Main Street, Grapevine, TX 76051 | December 10, 2012 | 480598
Harris, (FEMA Docket No.: B-1274) | City of Pearland (12-06-1209P) | The Honorable Tom Reid, Mayor, City of Pearland, 3519 Liberty Drive, Pearland, TX 77581 | 3519 Liberty Drive, Pearland, TX 77581 | November 8, 2012 | 480077
Travis, (FEMA Docket No.: B-1274) | City of Austin (11-06-4564P) | The Honorable Lee Leffingwell, Mayor, City of Austin, P.O. Box 1088, Austin, TX 78767 | Watershed Protection Department, 505 Barton Springs Road, 12th Floor, Austin, TX 78704 | December 3, 2012 | 480624
Travis, (FEMA Docket No.: B-1274) | City of Austin (12-06-1380P) | The Honorable Lee Leffingwell, Mayor, City of Austin, P.O. Box 1088, Austin, TX 78767 | Watershed Protection Department, 505 Barton Springs Road, 12th Floor, Austin, TX 78704 | December 10, 2012 | 480624
Wilson, (FEMA Docket No.: B-1274) | Unincorporated areas of Wilson County (12-06-2559P) | The Honorable Marvin Quinney, Wilson County Judge, 1103 4th Street, Floresville, TX 78114 | 1420 3rd Street, Floresville, TX 78114 | December 20, 2012 | 480230
Virginia
Arlington, (FEMA Docket No.: B-1274) | Unincorporated areas of Arlington County (12-03-0954P) | The Honorable Mary Hughes Hynes, Chairman, Arlington County Board, 2100 Clarendon Boulevard, Arlington, VA 22201 | 2100 Clarendon Boulevard, Arlington, VA 22201 | December 17, 2012 | 515520
Henrico, (FEMA Docket No.: B-1274) | Unincorporated areas of Henrico County (12-03-0257P) | The Honorable Frank J. Thornton, Chairman, Henrico County Board of Supervisors, P.O. Box 90775, Henrico, VA 23273 | Henrico County Courthouse. 4301 East Parham Road, Richmond, VA 23229 | December 12, 2012 | 510077

(Catalog of Federal Domestic Assistance No. 97.022, “Flood Insurance.”)

Roy Wright,
Deputy Associate Administrator for Mitigation, Department of Homeland Security, Federal Emergency Management Agency.

[FR Doc. 2013-05194 Filed 3-5-13; 8:45 am]

BILLING CODE 9110-12-P